DEPARTMENT OF ENERGY

Federal Energy Regulatory Commission

[Docket No. RP96-389-038]

Columbia Gulf Transmission Company; Notice of Negotiated Rate Filing

January 2, 2002.

Take notice that on December 27, 2001, Columbia Gulf Transmission Company (Columbia Gulf) tendered for filing the following contract for disclosure of a recently negotiated rate transaction:

ITS-2 Service Agreement No. 71879 between Columbia Gulf Transmission Company and Amoco Energy Trading Corp. dated December 21, 2001

Transportation service is to commence January 1, 2002 under the agreement.

Columbia Gulf states that copies of the filing have been served on all parties identified on the official service list in Docket No. RP96-389.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-338 Filed 1-7-02; 8:45 am]

BILLING CODE 6717-01-P